FEDERAL COMMUNICATIONS COMMISSION

[OMB 3060-0895, OMB 3060-1155, OMB 3060-1223; FR ID 90750]

Information Collections Being Submitted for Review and Approval to Office of Management and Budget

AGENCY: Federal Communications Commission.

ACTION: Notice and request for comments.

SUMMARY: As part of its continuing effort to reduce paperwork burdens, as required by the Paperwork Reduction Act (PRA) of 1995, the Federal Communications Commission (FCC or the Commission) invites the general public and other Federal Agencies to take this opportunity to comment on the following information collection. Pursuant to the Small Business Paperwork Relief Act of 2002, the FCC seeks specific comment on how it might “further reduce the information collection burden for small business concerns with fewer than 25 employees.” The Commission may not conduct or sponsor a collection of information unless it displays a currently valid Office of Management and Budget (OMB) control number. No person shall be subject to any penalty for failing to comply with a collection of information subject to the PRA that does not display a valid OMB control number.

DATES: Written comments and recommendations for the proposed information collection should be submitted on or before July 11, 2022.

ADDRESSES: Comments should be sent to www.reginfo.gov/public/do/PRAMain. Find this particular information collection by selecting “Currently under 30-day Review—Open for Public Comments” or by using the search function. Your comment must be submitted into www.reginfo.gov per the above instructions for it to be considered. In addition to submitting in www.reginfo.gov also send a copy of your comment on the proposed information collection to Nicole Ongele, FCC, via email to PRA@fcc.gov and to Nicole.Ongele@fcc.gov. Include in the comments the OMB control number as shown in the SUPPLEMENTARY INFORMATION below.

FOR FURTHER INFORMATION CONTACT: For additional information or copies of the information collection, contact Nicole Ongele at (202) 418-2991. To view a copy of this information collection request (ICR) submitted to OMB: (1) go to the web page http://www.reginfo.gov/public/do/PRAMain, (2) look for the section of the web page called “Currently Under Review,” (3) click on the downward-pointing arrow in the “Select Agency” box below the “Currently Under Review” heading, (4) select “Federal Communications Commission” from the list of agencies presented in the “Select Agency” box, (5) click the “Submit” button to the right of the “Select Agency” box, (6) when the list of FCC ICRs currently under review appears, look for the Title of this ICR and then click on the ICR Reference Number. A copy of the FCC submission to OMB will be displayed.

SUPPLEMENTARY INFORMATION: As part of its continuing effort to reduce paperwork burdens, as required by the Paperwork Reduction Act (PRA) of 1995 (44 U.S.C. 3501-3520), the FCC invited the general public and other Federal Agencies to take this opportunity to comment on the following information collection. Comments are requested concerning: (a) Whether the proposed collection of information is necessary for the proper performance of the functions of the Commission, including whether the information shall have practical utility; (b) the accuracy of the Commission's burden estimates; (c) ways to enhance the quality, utility, and clarity of the information collected; and (d) ways to minimize the burden of the collection of information on the respondents, including the use of automated collection techniques or other forms of information technology. Pursuant to the Small Business Paperwork Relief Act of 2002, Public Law 107-198, see 44 U.S.C. 3506(c)(4), the FCC seeks specific comment on how it might “further reduce the information collection burden for small business concerns with fewer than 25 employees.”

OMB Control Number: 3060-0895.

Title: Numbering Resource Optimization.

Form Number: FCC Form 502.

Type of Review: Extension of a currently approved collection.

Respondents: Business or other for-profit entities and State, Local, or Tribal Government.

Number of Respondents and Responses: 8,415 respondents; 74,172 responses.

Estimated Time per Response: 1 hour-44.4 hours.

Frequency of Response: On occasion and semi-annual reporting requirements and recordkeeping requirement.

Obligation to Respond: Mandatory. Statutory authority for this information collection is contained in 47 U.S.C. 151, 153, 154, 201-205 and Section 251 of the Communications Act of 1934.

Total Annual Burden: 290,637 hours.

Total Annual Cost: $4,747,499.

Privacy Impact Assessment: No impact(s).

Nature and Extent of Confidentiality: Disaggregated, carrier-specific forecast and utilization data will be treated as confidential and will be exempt from public disclosure under 5 U.S.C. 552(b)(4).

Needs and Uses: The data collected on FCC Form 502 helps the Commission manage the ten-digit North American Numbering Plan (NANP), which is currently being used by the United States and 19 other countries. Under the Communications Act of 1934, as amended, the Commission was given “exclusive jurisdiction over those portions of the North American Numbering Plan that pertains to the United States.” Pursuant to that authority, the Commission conducted a rulemaking in March 2000 that the Commission found that mandatory data collection is necessary to efficiently monitor and manage numbering use. The Commission received OMB approval for this requirement and the following:

(1) Utilization/Forecast Report;

(2) Application for initial numbering resource;

(3) Application for growth numbering resources;

(4) Recordkeeping requirement;

(5) Notifications by state commissions;

(6) Demonstration to state commission; and

(7) Petitions for additional delegation of numbering authority.

The data from this information collection is used by the FCC, state regulatory commissions, and the NANPA to monitor numbering resource utilization by all carriers using the resource and to project the dates of area code and NANP exhaust.

OMB Control Number: 3060-1155.

Title: Sections 15.709, 15.713, 15.714, 15.715 15.717, 27.1320, TV White Space Broadcast Bands.

Form No.: N/A.

Type of Review: Revision of a currently approved collection.

Respondents: Business or other for-profit entities.

Number of Respondents and Responses: 1,510 respondents; 3,500 responses.

Estimated Time per Response: 2 hours.

Frequency of Response: On occasion reporting requirement, recordkeeping requirement and third party disclosure requirement.

Obligation to Respond: Required to obtain or retain benefits. Statutory authority for this information collection is contained in 47 U.S.C. Sections 4(i), 201, 302, and 303 of the Communications Act of 1934, as amended, 47 U.S.C. 154(i), 201, 302a, 303.

Total Annual Burden: 7,000 hours.

Total Annual Cost: $151,000.

Privacy Act Impact Assessment: No Impact(s).

Nature and Extent of Confidentiality: The Commission is not requesting respondents to submit confidential information to the Commission. Respondents may request confidential treatment of such information under 47 CFR 0.459 of the Commission's rules.

Needs and Uses: The Commission is submitting this information collection as a revision to the Office of Management and Budget (OMB) after this 60 day comment period in order to obtain the full three year clearance.

On January 25, 2022, the Commission adopted a Second Order on Reconsideration, Further Notice of Proposed Rulemaking, and Order in ET Docket Nos. 14-165, 20-36, 04-186 and GN Docket No. 12-268, FCC 22-6, that made changes to the requirements for how white space devices must interact with the white space database. The white space database determines which frequencies are available for unlicensed devices and is the primary means to prevent white space devices from causing harmful interference to TV reception and other protected services. The Commission eliminated the requirement for white space database administrators to “push” changes in channel availability information to white space devices. It instead requires fixed and Mode II personal/portable white space devices, other than narrowband devices, to re-check the white space database once per hour rather than once per day. The Commission retained a daily re-check requirement for mobile and narrowband devices but sought comment on whether to apply an hourly re-check requirement to these types of devices. The Commission also retained the requirement for white space database administrators to share licensed wireless microphone registration information with other database administrators within ten minutes after it is received, but moved this requirement to a different rule section.

The modified database administrator requirements, Section 15.715(l) are as follows:

§ 15.715 White space database administrator.

(l) If more than one database is developed, the database administrators shall cooperate to develop a standardized process for providing on a daily basis or more often, as appropriate, the data collected for the facilities listed in § 15.713(b)(2) to all other white space databases to ensure consistency in the records of protected facilities. In response to a request for immediate access to a channel by a licensed wireless microphone user, white space database administrators are required to share the licensed microphone channel registration information to all other white space database administrators within 10 minutes of receiving each wireless microphone registration.

On October 27, 2020, the Commission adopted a Report and Order and Notice of Proposed Rulemaking in ET Docket No. 20-36, FCC 20-156, that made targeted changes to the Part 15 rules for unlicensed white space devices in the TV bands to provide improved broadband coverage that will benefit American consumers in rural and underserved areas as well as to provide improved access to narrowband IoT applications while still protecting broadcast television stations from harmful interference. Specifically, the Commission permits higher EIRP and higher antenna HAAT for fixed white space devices in “less congested” geographic areas. In addition, the Commission permits higher power mobile operation within “geo-fenced” areas in “less congested” areas. The Order revised Section 15.709(g)(1)(ii) to increase the maximum permissible antenna height above average terrain for fixed white space devices on TV channels 2-35 in “less congested” areas from 250 meters to 500 meters.

The white space rules as amended by the 2020 White Spaces R&O require that fixed white space devices and installing parties comply with the following requirements with respect to the antenna height above average terrain:

15.709 General technical requirements.

(g) Antenna requirements—

(1) Fixed white space devices—

(ii) Height above average terrain (HAAT). For devices operating in the TV bands below 602 MHz, the transmit antenna shall not be located where its height above average terrain exceeds 250 meters generally, or 500 meters in less congested areas. For devices operating in all other bands the transmit antenna shall not be located where its height above average terrain exceeds 250 meters. The HAAT is to be calculated by the white space database using the methodology in § 73.684(d) of this chapter. For HAAT greater than 250 meters the following procedures are required:

(A) The installing party must contact a white space database and identify all TV broadcast station contours that would be potentially affected by operation at the planned HAAT and EIRP. A potentially affected TV station is one where the protected service contour is within the applicable separation distance for the white space device operating at an assumed HAAT of 50 meters above the planned height at the proposed power level.

(B) The installing party must notify each of these licensees and provide the geographic coordinates of the white space device, relevant technical parameters of the proposed deployment, and contact information.

(C) No earlier than four calendar days after this notification, the installing party may commence operations.

(D) Upon request, the installing party must provide each potentially affected licensee with information on the time periods of operations.

(E) If the installing party seeks to modify its operations by increasing its power level, by moving more than 100 meters horizontally from its location, or by making an increase in the HAAT or EIRP of the white space device that results in an increase in the minimum required separation distances from co-channel or adjacent channel TV station contours, it must conduct a new notification.

(F) All notifications required by this section must be in written form (including email). In all cases, the names of persons contacted, and dates of contact should be kept by the white space device operator for its records and supplied to the Commission upon request.

OMB Control Number: 3060-1223.

Title: Payment Instructions from the Eligible Entity Seeking Reimbursement from the TV Broadcaster Relocation Fund.

Form Number: FCC Form 1876.

Type of Review: Extension of a currently approved collection.

Respondents: Business or other for-profit, Not-for-profit institutions and State, Local or Tribal Government.

Number of Respondents and Responses: 350 respondents; 350 responses.

Estimated Time per Response: 5 hours.

Frequency of Response: One-time reporting requirement.

Obligation to Respond: Required to obtain or retain benefits. The statutory authority for this collection is contained in Middle Class Tax Relief and Job Creation Act of 2012, Public Law 112-96 (Spectrum Act) section 6403(a)(1) and Repack Airwaves Yielding Better Access for Users of Modern Services Act of 2018, Public Law 115-141, Div. P, (RAY BAUM'S Act) section 1452.

Total Annual Burden: 1,750 hours.

Total Annual Cost: No Cost.

Privacy Act Impact Assessment: No Impact(s).

Nature and Extent of Confidentiality: The information collection includes information identifying bank accounts and providing account and routing numbers to access those accounts. FCC considers that information to be records not routinely available for public inspection under 47 CFR 0.457, and exempt from disclosure under FOIA exemption 4 (5 U.S.C. 552(b)(4)).

Needs and Uses: The Commission is requesting Office of Management and Budget (OMB) approval for a three-year extension of this information collection.

The Spectrum Act requires the Commission to reimburse broadcast television licensees for costs “reasonably incurred” in relocating to new channels assigned in the repacking process and Multichannel Video Programming Distributors (MVPDs) for costs reasonably incurred in order to continue to carry the signals of stations relocating to new channels as a result of the repacking process or a winning reverse auction bid.¹

¹ Middle Class Tax Relief and Job Creation Act of 2012, Public Law 112-96 (Spectrum Act) § 6403(b)(4)(A)(i), (ii).

The Commission decided through notice-and-comment rulemaking that it will issue all eligible broadcasters and MVPDs an initial allocation of funds based on estimated costs, which will be available for draw down (from individual accounts in the U.S. Treasury) as the entities incur expenses, followed by a subsequent allocation to the extent necessary. The reason for allowing eligible entities to draw down funds as they incur expenses is to reduce the chance that entities will be unable to finance necessary relocation changes.²

² Expanding the Economic and Innovation Opportunities of Spectrum Through Incentive Auctions, GN Docket No. 12-268, Report and Order, 29 FCC Rcd 6567 (2014) (“Incentive Auction R&O”) at 609.

The information collection for which we are requesting approval is necessary for eligible entities to instruct the Commission on how to pay the amounts the entities draw down, and for the entities to make certifications that reduce the risk of waste, fraud, abuse and improper payments.

Federal Communications Commission.
Marlene Dortch,
Secretary. Office of the Secretary.

[FR Doc. 2022-12532 Filed 6-9-22; 8:45 am]

BILLING CODE 6712-01-P